DEPARTMENT OF COMMERCE

International Trade Administration

[A-533-813, A-560-802, A-570-851]

Certain Preserved Mushrooms From India, Indonesia, and the People's Republic of China: Notice of Extension of Time Limit for Preliminary Results in Antidumping Duty Administrative Reviews

AGENCY: Import Administration, International Trade Administration, Department of Commerce

EFFECTIVE DATE: July 19, 2001.

FOR FURTHER INFORMATION CONTACT: Kate Johnson at (202) 482-4929, or David J. Goldberger at (202) 482-4136, Office 2, AD/CVD Enforcement Group I, Import Administration, International Trade Administration, U.S. Department of Commerce, 14th Street and Constitution Avenue, NW., Washington, DC, 20230.

SUMMARY: The Department of Commerce is extending the time limit for the preliminary results of the administrative reviews of the antidumping duty order on certain preserved mushrooms from India, Indonesia, and the People's Republic of China, which cover the period February 1, 2000, through January 31, 2001.

Applicable Statute: Unless otherwise indicated, all citations to the Tariff Act of 1930, as amended (the Act), are references to the provisions effective January 1, 1995, the effective date of the amendments made to the Act by the Uruguay Round Agreements Act. In addition, unless otherwise indicated, all citations to the Department of Commerce (the Department) regulations are to 19 CFR Part 351 (April 2000).

SUPPLEMENTARY INFORMATION: Pursuant to section 751(a)(3)(A) of the Act, the Department shall make a preliminary determination in an administrative review of an antidumping duty order within 245 days after the last day of the anniversary month of the date of publication of the order. The Act further provides, however, that the Department may extend that 245-day period to 365 days if it determines it is not practicable to complete the review within the foregoing time period. The Department finds that it is not practicable to complete the preliminary results in these administrative reviews of certain preserved mushrooms from India, Indonesia, and the People's Republic of China within this time limit because we must request additional information and clarifications of submitted data from the respondents as well as deal with administrative resource constraints.

Therefore, in accordance with section 751(a)(3)(A) of the Act, the Department is extending the time for completion of the preliminary results of these reviews until February 28, 2002.

Dated: July 13, 2001.
Richard W. Moreland,
Deputy Assistant Secretary for Import Administration.

[FR Doc. 01-18123 Filed 7-18-01; 8:45 am]

BILLING CODE 3510-DS-P